DEPARTMENT OF THE INTERIOR

National Park Service

Notice of Availability of the Final General Management Plan/Visitor Use and Facilities Plan and the Final Environmental Impact Statement for Voyageurs National Park, MN

AGENCY: National Park Service, Interior.

SUMMARY: Pursuant to section 102 (2) of the National Environmental Policy Act of 1969, the National Park Service announces the availability of the final general management plan/visitor use and facilities plan and the final environmental impact statement (FGMP/FEIS) for Voyageurs National Park.

DATES: The required no-action period on this FGMP-FEIS will expire 30 days after the Environmental Protection Agency has published a notice of availability of the FEIS in the Federal Register.

FOR FURTHER INFORMATION CONTACT: Kathleen Przybylski, Voyageurs National Park, 3131 Highway 53, International Falls, MN 56649, telephone: 218-283-9821. Copies of the plan may also be requested at this address and telephone number, or by e-mail from Kathleen_Przybylski@nps.gov.

SUPPLEMENTARY INFORMATION: The purpose of the general management plan/visitor use and facilities plan is to set forth the basic management philosophy for the park and to provide the strategies for addressing issues and achieving identified management objectives. The FGMP/FEIS describes and analyzes the environmental impacts of a proposed action and two action alternatives for the future management direction of the park. A no action alternative is also evaluated.

The draft general management plan/visitor use and facilities plan and draft environmental impact statement (DGMP/DEIS) for Voyageurs National Park was released to the public on June 16, 2000. The public comment period ended October 2, 2000. Modifications to the DGMP/DEIS have been made based on public comment received and on further impact analysis.

The responsible official is Mr. William Schenk, Midwest Regional Director, National Park Service.

Dated: September 21, 2001.
William W. Schenk,
Regional Director, Midwest Region.

[FR Doc. 01-28304 Filed 11-9-01; 8:45 am]

BILLING CODE 4310-70-P